DEPARTMENT OF ENERGY

Federal Energy Regulatory Commission

[Docket No. RD25-1-000, RD25-2-000, RD25-3-000]

Commission Information Collection Activities (FERC-725G) Comment Request; Revision

AGENCY: Federal Energy Regulatory Commission.

ACTION: Notice of information collection and request for comments.

SUMMARY: In compliance with the requirements of the Paperwork Reduction Act of 1995, the Federal Energy Regulatory Commission (Commission or FERC) is soliciting public comment on proposed revisions of the currently approved information collection, Mandatory Reliability Standards, Revised Protection and Control Reliability Standards (PRC): Reliability Standards PRC-028-1 (Disturbance Monitoring and Reporting Requirements for Inverter-Based Resources) and PRC-002-5 (Disturbance Monitoring and Reporting Requirements); ¹ and (3) proposed Reliability Standard PRC-030-1 (Unexpected Inverter-Based Resource Event Mitigation). The 60-day notice published on February 26, 2025; no comments were received during the comment period.

¹ NERC Petition, Docket No. RD25-2-000 (NERC PRC-028-1 Petition).

DATES: Comments on the collection of information are due August 25, 2025.

ADDRESSES: Send written comments on FERC-725G to OMB through https://www.reginfo.gov/public/do/PRA/icrPublicCommentRequest?ref_nbr=202507-1902-002. You can also visit https://www.reginfo.gov/public/do/PRAMain and use the drop-down under “Currently under Review” to select the “Federal Energy Regulatory Commission” where you can see the open opportunities to provide comments. Comments should be sent within 30 days of publication of this notice.

Please submit a copy of your comments to the Commission via email to DataClearance@FERC.gov. You must specify the Docket No. (RD25-1-000, RD25-1-000, RD25-3-000) and the FERC Information Collection number (FERC-725G) in your email. If you are unable to file electronically, comments may be filed by USPS mail or by hand (including courier) delivery:

• Mail via U.S. Postal Service Only: Federal Energy Regulatory Commission, Secretary of the Commission, 888 First Street NE, Washington, DC 20426.

• All other delivery methods: Federal Energy Regulatory Commission, Secretary of the Commission, 12225 Wilkins Avenue, Rockville, MD 20852.

Docket: To view comments and issuances in this docket, please visit https://elibrary.ferc.gov/eLibrary/search. Once there, you can also sign-up for automatic notification of activity in this docket.

FOR FURTHER INFORMATION CONTACT: Kayla Williams, (202) 502-6468. DataClearance@FERC.gov.

SUPPLEMENTARY INFORMATION:

Title: FERC-725G, (Mandatory Reliability Standards: PRC Reliability Standards) and

OMB Control No.: FERC-725G (1902-0252).

Type of Request: Revision of FERC-725G—Mandatory Reliability Standards, PRC Standards: for PRC-028-1, PRC-002-5, and PRC-030-1.

Abstract: The Reliability Standards pertaining to disturbance monitoring and reporting requirements for IBRs and unexpected IBR event mitigation as well as the IBR definition are being proposed. The Commission approved the proposed IBR definition and Reliability Standards PRC-028-1, PRC-002-5, and PRC-030-1 pursuant to section 215(d)(2) of the FPA because the definition and the Standards help ensure the availability of data from synchronous generating resources and IBRs; the Standards also create requirements for a documented process to identify unexpected IBR events and to develop corrective action plans, as needed.

The Commission bases its paperwork burden estimates on the additional paperwork burden presented by the proposed revisions to Reliability Standard PRC-002-5 and new Reliability Standards PRC-028-1 and PRC-030-1. The new glossary term Inverter-Based Resource (IBR) is not expected to generate any new burden as it is a definition used within the body of Reliability Standards. Reliability Standards are objective-based and allow entities to choose compliance approaches best tailored to their systems. As of November 20, 2024, the NERC Compliance Registry identified 12 reliability coordinators, 325 transmission owners, and 1,238 generator owners as unique U.S. entities that are subject to mandatory compliance with Reliability Standard PRC-002-5. Additionally, these entities will have additional burdens given that the revisions to Reliability Standard PRC-002-5 will focus on synchronous generation and updates to SER, FR, and DDR data being supplied to the reliability coordinator, regional entity, or NERC. Burden estimates for the unique U.S. entities for new PRC-028-1 and PRC-030-1 are taken from numbers supplied by NERC, with 591 registered generator owners that own bulk electric system solar and wind facilities and a median 755 generator owners that own non bulk electric system facilities. Based on these assumptions, we estimate the following reporting burden:

² The “Number of Entity” data is compiled from the November 20, 2024, edition of the NERC Compliance Registry.

³ The estimated hourly cost (salary plus benefits) is a combination of the following categories from the Bureau of Labor Statistics (BLS) website, http://www.bls.gov/oes/current/naics2_22.htm: 75% of the average of an Electrical Engineer (17-2071) $79.31/hr., $79.31 × 0.75 = $59.4825 ($59.48/hour); and 25% of an Information and Record Clerk (43-4199) $44.74/hr., $44.74 × 0.25 = 11.185 ($11.19/hour); for a total of ($59.48 + $11.19 = $70.67/hour).

⁴ The “Number of Entity” data is compiled from the November 20, 2024, edition of the NERC Compliance Registry.

⁵ The estimated hourly cost (salary plus benefits) is a combination of the following categories from the Bureau of Labor Statistics (BLS) website, http://www.bls.gov/oes/current/naics2_22.htm: 75% of the average of an Electrical Engineer (17-2071) $79.31/hr., $79.31 × 0.75 = $59.4825 ($59.48/hour); and 25% of an Information and Record Clerk (43-4199) $44.74/hr., $44.74 × 0.25 = $11.185 ($11.19/hour); for a total of ($59.48 + $11.19 = $70.67/hour).

⁶ The “Number of Entity” data is compiled from the November 20, 2024, edition of the NERC Compliance Registry.

⁷ The estimated hourly cost (salary plus benefits) is a combination of the following categories from the Bureau of Labor Statistics (BLS) website http://www.bls.gov/oes/current/naics2_22.htm: 75% of the average of an Electrical Engineer (17-2071) $79.31/hr., 79.31 × 0.75 = 59.4825 ($59.48/hour); and 25% of an Information and Record Clerk (43-4199) $44.74/hr., $44.74 × 0.25% = 11.185 ($11.19/hour); for a total of ($59.48 + $11.19 = $70.67/hour).

Proposed Changes in Burden PRC-002-5 Docket No. RD25-1
Reliability standard | Type and number of entity ² | Number of annual responses per entity | Total number of responses | Average number of burden hours per response ³ | Total burden hours
| (1) | (2) | (1) * (2) = (3) | (4) | (3) * (4) = (5)
Annual Collection PRC-002-5 FERC-725G
Annual review and record retention | 12 (RC) | 1 | 12 | 8 hrs. $ 70.67/hr | 96 hrs. $ 6,784.32
325 (TO) | 1 | 325 | 8 hrs. $ 70.67/hr | 2,600 hrs. $ 183,742.00
| 1,238 (GO) | 1 | 1,238 | 8 hrs. $ 70.67/hr | 9.904 hrs. $ 699,915.68
Total for PRC-002-5 |  |  | 1,575 |  | 12,600 hrs. $ 890,442.00

Proposed Burden PRC-028-1 Docket No. RD25-2
Reliability standard | Type and number of entity ⁴ | Number of annual responses per entity | Total number of responses | Average number of burden hours per response ⁵ | Total burden hours
| (1) | (2) | (1) * (2) = (3) | (4) | (3) * (4) = (5)
Annual Collection PRC-028-1 FERC-725G
Annual review and record retention | 591 (BES IBR GO) | 1 | 591 | 80 hrs. $ 70.67/hr | 47,280 hrs. $ 3,341,277.60
| 755 (Non-BES IBR GO) | 1 | 755 | 80 hrs. $ 70.67/hr | 60,400 hrs. $ 4,268,468.00
Total for PRC-028-1 |  |  | 1,346 |  | 107,680 hrs. $ 7,609,745.60

Proposed Burden PRC-030-1 Docket No. RD25-3
Reliability standard | Type and number of entity ⁶ | Number of annual responses per entity | Total number of responses | Average number of burden hours per response ⁷ | Total burden hours
| (1) | (2) | (1) * (2) = (3) | (4) | (3) * (4) = (5)
Annual Collection PRC-030-1 FERC-725G
Annual review and record retention | 591 (BES IBR GO) | 0.5 | 296 | 40 hrs. $ 70.67/hr | 11,840 hrs. $ 836,732.80
| 755 (Non-BES IBR GO) | 0.5 | 378 | 40hrs. $ 70.67/hr | 15,120 hrs. $ 1,068,530.40
Total for PRC-030-1 |  |  | 674 |  | 26,960 hrs. $ 1,905,263.20

The responses and burden hours for Years 1-3 will total respectively as follows:

• Year 1-3 each: for proposed Reliability standard PRC-002-5 will be 1,575 responses; 12,600 hours;

• Year 1-3 each: for proposed Reliability Standard PRC-028-1 will be 1,346 responses; 107,680 hours; and

• Year 1-3 each: for proposed Reliability Standard PRC-030-1 will be 674 responses; 26,960 hours.

• The annual cost burden for each Year 1-3 is $890,442.00 for proposed Reliability Standard PRC-002-5; $7,609,745.60 for Proposed Reliability Standard PRC-028-1; and $1,905,263.20 for proposed Reliability Standard PRC-030-1.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: July 18, 2025.
Debbie-Anne A. Reese,
Secretary.

[FR Doc. 2025-13880 Filed 7-23-25; 8:45 am]

BILLING CODE 6717-01-P